ENVIRONMENTAL PROTECTION AGENCY

40 CFR Part 52

[EPA-R09-OAR-2015-0289; FRL 9933-19-Region 9]

Revisions to the California State Implementation Plan, Imperial County Air Pollution Control District

AGENCY: Environmental Protection Agency (EPA).

ACTION: Proposed rule.

SUMMARY: The Environmental Protection Agency (EPA) is proposing to approve a revision to the Imperial County Air Pollution Control District (ICAPCD or the District) portion of the California State Implementation Plan (SIP). We propose to approve the following SIP demonstration from ICAPCD: Final 2009 Reasonably Available Control Technology State Implementation Plan, July 13, 2010. This demonstration addresses the 1997 8-hour National Ambient Air Quality Standards (NAAQS) for ozone. This submitted SIP revision contains ICAPCD's negative declarations for volatile organic compound (VOC) source categories. We propose to approve the submitted reasonably available control technology (RACT) SIP revision under the Clean Air Act (CAA or the Act). We are taking comments on this proposal and plan to follow with a final action.

DATES: Any comments must arrive by October 1, 2015.

ADDRESSES: Submit comments, identified by docket number EPA-R09-OAR-2015-0289, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and the EPA will not know your identity or contact information unless you provide it in the body of your comment. If you send email directly to the EPA, your email address will be automatically captured and included as part of the public comment. If the EPA cannot read your comment due to technical difficulties and cannot contact you for clarification, the EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: James Shears, EPA Region IX, (213) 244-1810, shears.james@epa.gov.

SUPPLEMENTARY INFORMATION: Throughout this document, “we,” “us,” and “our” refer to the EPA.

Table of Contents

I. The State's Submittal

A. What document did the State submit?

B. Are there other versions of this document?

C. What is the purpose of the RACT SIP submission?

II. The EPA's Evaluation and Action

A. How is the EPA evaluating the RACT SIP submission?

B. Does the RACT SIP submission meet the evaluation criteria?

C. EPA recommendations to further improve the RACT SIP

D. Public comment and final action

III. Statutory and Executive Order Reviews

I. The State's Submittal

A. What document did the State submit?

Table 1 includes the document addressed by this action with the date that it was adopted by the local air agency and submitted by the California Air Resources Board (CARB).

Table 1—Submitted Document
Local agency | Document | Adopted | Submitted
ICAPCD | Final 2009 Reasonably Available Control Technology State Implementation Plan (“2009 RACT SIP”) | 7/13/10 | 12/21/10

On June 21, 2011, the RACT SIP submittal for ICAPCD was deemed by operation of law to meet the completeness criteria in 40 CFR part 51, appendix V, which must be met before formal EPA review.

B. Are there other versions of this document?

There is no previous version of ICAPCD's 2009 RACT SIP.

C. What is the purpose of the RACT SIP submission?

VOCs and nitrogen oxides (NOX) help produce ground-level ozone and smog, which harm human health and the environment. Section 110(a) of the CAA requires States to submit regulations that control VOC and NOX emissions. Sections 182(b)(2) and (f) require that SIPs for ozone areas classified as moderate or above require implementation of RACT for any source covered by an EPA Control Technique Guideline (CTG) document and any major stationary source of VOCs or NOX. ICAPCD is subject to this requirement as the District is designated and classified as a moderate nonattainment area for the 1997 8-hour NAAQS for ozone (see 40 CFR 81.305). Therefore, ICAPCD must, at a minimum, adopt RACT-level controls for all sources covered by a CTG document and for all major non-CTG stationary sources of VOCs or NOX. The District adopted its 2009 RACT SIP revision on July 13, 2010. ICAPCD received no comments on its RACT SIP demonstration.

II. The EPA's Evaluation and Action

A. How is the EPA evaluating the RACT SIP submission?

With the implementation of the 1997 8-hour NAAQS for ozone, ICAPCD was classified as a marginal nonattainment area (69 FR 23858, April 30, 2004). Subsequently, the EPA found that Imperial County did not meet attainment by the deadline of June 15, 2007, and reclassified it as a moderate nonattainment area with an attainment deadline of June 15, 2010 (see 73 FR 8209, February 13, 2008). On December 3, 2009, the EPA issued a final ruling (74 FR 63309) determining that Imperial County attained the 1997 8-hour NAAQS based on ambient air monitoring data for the years 2006 through 2008. Although the finding of attainment by the EPA suspended certain SIP related requirements, it did not suspend the RACT requirements for VOCs and NOX. Pursuant to 40 CFR 51.912(a)(1), the State (or local air district) must submit a SIP revision that meets the VOC and NOX RACT requirements in CAA section 182(b)(2) and (f) for each area subject to subpart 2 and classified moderate or higher. Therefore, ICAPCD must, at a minimum, adopt RACT-level controls for sources covered by a CTG document and for any major stationary source of VOCs or NOX.¹ Any stationary source that emits or has a potential to emit at least 100 tons per year (tpy) of VOCs or NOX in a moderate nonattainment area is considered a major stationary source (see CAA sections 182(b)(2) and (f) and 302(j)). Where there are no existing sources covered by a particular CTG document or no major stationary sources of VOCs or NOX, states may, in lieu of adopting RACT requirements, adopt negative declarations certifying that there are no such sources in the relevant nonattainment area (see Memorandum from William T. Harnett to Regional Air Division Directors, (May 18, 2006), “RACT Qs & As—Reasonably Available Control Technology (RACT) Questions and Answers”, page 7).

¹ CAA section 182(b)(2) and (f).

Guidance and policy documents that we use to evaluate CAA section 182 RACT SIPs for ICAPCD include the following:

1. “Final Rule to Implement the 8-Hour Ozone National Ambient Air Quality Standard—Phase 2” (70 FR 71612; November 29, 2005).

2. “Air Quality Designations and Classifications for the 8-Hour Ozone National Ambient Air Quality Standards; Early Action Compact Areas with Deferred Dates”—Final Rule (69 FR 23858; April 30, 2004).

3. “State Implementation Plans, General Preamble for the Implementation of Title I of the Clean Air Act Amendments of 1990” (57 FR 13498; April 16, 1992).

4. Issues Relating to VOC Regulation Cutpoints, Deficiencies, and Deviations: Clarification to Appendix D of November 24, 1987 Federal Register, May 25, 1988, Revised January 11, 1990, U.S. EPA, Air Quality Management Division, Office of Air Quality Planning and Standards (“The Blue Book”).

5. Guidance Document for Correcting Common VOC and Other Rule Deficiencies, August 21, 2001, U.S. EPA Region IX (the “Little Bluebook”).

6. “State Implementation Plans; Nitrogen Oxides Supplement to the General Preamble for the Implementation of Title I of the Clean Air Act Amendments of 1990” (57 FR 55620, November 25, 1992) (“the NOX Supplement”).

7. Memorandum from William T. Harnett to Regional Air Division Directors, (May 18, 2006), “RACT Qs & As—Reasonably Available Control Technology (RACT) Questions and Answers.”

8. RACT SIPs, Letter dated March 9, 2006 from EPA Region IX (Andrew Steckel) to CARB (Kurt Karperos) describing Region IX's understanding of what constitutes a minimally acceptable RACT SIP.

9. “Final Rule to Implement the 1997 8-Hour Ozone National Ambient Air Quality Standard: Classification of Areas That Were Initially Classified Under Subpart 1; Revision of the Anti-Backsliding Provisions To Address 1-Hour Contingency Measure Requirements; Deletion of Obsolete 1-Hour Standard Provision”—Final Rule (77 FR 28424; May 14, 2012).

10. “Model Volatile Organic Compound Rules for Reasonably Available Control Technology”, EPA (June 1992).

11. “Beyond VOC RACT Requirements”, EPA-453/R-95-010, (April 1995).

12. The EPA's CTGs http://www.epa.gov/glo/SIPToolkit/ctgs.html.

13. CARB's emissions inventory database http://www.arb.ca.gov/app/emsinv/facinfo/facinfo.php

14. CARB and EPA Region IX databases of ICAPCD rules—CARB: http://www.arb.ca.gov/ridb.htm EPA: http://epa.gov/region09/air/sips/index.html

15. “Implementation of the 2008 National Ambient Air Quality Standards for Ozone: State Implementation Plan Requirements”—Final Rule (80 FR 12264; March 6, 2015).

B. Does the RACT SIP submission meet the evaluation criteria?

The 2009 RACT SIP includes three elements, as described further below:

1. Evaluations of VOC and NOX rules for sources subject to a CTG.

2. Negative declarations where there are no facilities subject to a CTG.

3. Major Non-CTG sources of VOC or NOX.

A summary of our evaluation of each element is provided below. For additional information concerning our evaluation, please refer to the Technical Support Document (TSD) for the 2009 RACT SIP which is available in the docket for this action.

1. Evaluations of VOC and NOX Rules for Sources Subject to a CTG

ICAPCD identified 11 CTGs which apply to sources within Imperial County and are addressed in the RACT SIP. The District also compared its rules for these sources to similar rules in other air districts, and concluded their rules meet RACT requirements. We have reviewed ICAPCD's analysis, including review of the referenced rules, and found no basis to disagree with ICAPCD's conclusion that it has implemented RACT for all relevant CTG categories with three clarifications. Rule 413, Organic Solvent Degreasing Operations, and Rule 417, Organic Solvents, are not required to satisfy RACT. Subsequent to its 2009 RACT submittal, the District found it had no sources of organic solvent cleaning within the District that would be subject to the 1977 Solvent Metal Cleaning CTG for Rule 413, nor any sources subject to the 2006 Industrial Cleaning Solvents CTG's nine unit operations for Rule 417.² Therefore, ICAPCD should formally adopt and submit to EPA as a SIP revision a negative declaration for each of these CTGs. Rule 427, Automotive Refinishing Operations, is not subject to RACT since it is not a CTG category and ICAPCD does not have any automobile refinishing operations that are major sources of VOC.

² ICAPCD—Supplemental to 2009 RACT SIP—Analysis of Control Technologies Guidance (CTG) Documents, July 31, 2015.

2. Negative Declarations Where There Are No Facilities Subject to a CTG

Negative declarations are only required for CTG source categories for which the District has no sources covered by the CTG. A negative declaration is not required for non-CTG source categories. Table 2 below lists the CTG source categories for the 2009 RACT SIP. The District indicated it does not currently have, nor does it anticipate sources subject to the CTGs in these categories in the future. We searched CARB's emissions inventory database to verify there are no facilities in ICAPCD that might be subject to the CTGs listed below. We concur with the District's negative declarations.

Table 2—ICAPCD Negative Declarations
CTG Source category | CTG Reference document
Aerospace | EPA-453/R-97-004, Aerospace CTG and MACT.
Automobile and Light-duty Trucks, Surface Coating of | EPA-450/2-77-008, Control of Volatile Organic Emissions from Existing Stationary Sources—Volume II: Surface Coating of Cans, Coils, Paper, Fabrics, Automobiles, and Light-Duty Trucks.
| EPA-453/R-08-006, Control Techniques Guidelines for Automobile and Light-Duty Truck Assembly Coatings.
Cans and Coils, Surface Coating of | EPA-450/2-77-008, Control of Volatile Organic Emissions from Existing Stationary Sources—Volume II: Surface Coating of Cans, Coils, Paper, Fabrics, Automobiles, and Light-Duty Trucks.
Fiberglass Boat Manufacturing | EPA-453/R-08-004, Controls Techniques Guidelines for Fiberglass Boat Manufacturing.
Flat Wood Paneling, Surface Coating of | EPA-450/2-78-032, Control of Volatile Organic Emissions from Existing Stationary Sources—Volume VII: Factory Surface Coating of Flat Wood Paneling.
| EPA-453/R-06-004, Control Techniques Guidelines for Flat Wood Paneling Coatings.
Flexible Packing Printing | EPA-453/R-06-003, Control Techniques Guidelines for Flexible Package Printing.
Graphic Arts—Rotogravure and Flexography | EPA-450/2-78-033, Control of Volatile Organic Emissions from Existing Stationary Sources, Volume III: Graphic Arts—Rotogravure and Flexography.
Large Appliances, Surface Coating of | EPA-450/2-77-034, Control of Volatile Organic Emissions from Existing Stationary Sources—Volume V: Surface Coating of Large Appliances.
| EPA-453/R-07-004, Control Techniques Guidelines for Large Appliance Coatings.
Large Petroleum Dry Cleaners | EPA-450/3-82-009, Control of Volatile Organic Compound Emissions from Large Petroleum Dry Cleaners.
Offset Lithographic Printing and Letterpress Printing | EPA-453/R-06-002, Control Techniques Guidelines for Offset Lithographic Printing and Letterpress Printing.
Magnet Wire, Surface Coating for Insulation of | EPA-450/2-77-033, Control of Volatile Organic Emissions from Existing Stationary Sources—Volume IV: Surface Coating of Insulation of Magnet Wire.
Metal Furniture Coatings | EPA-450/2-77-032, Control of Volatile Organic Emissions from Existing Stationary Sources—Volume III: Surface Coating of Metal Furniture.
| EPA-453/R-07-005, Control Techniques Guidelines for Metal Furniture Coatings.
Miscellaneous Metal and Plastic Parts Coatings | EPA-453/R-08-003, Control Techniques Guidelines for Miscellaneous Metal and Plastic Parts Coatings.
Miscellaneous Metal Parts and Products, Surface Coating of | EPA-450/2-78-015, Control of Volatile Organic Emissions from Existing Stationary Sources—Volume IV: Surface Coating of Miscellaneous Metal Parts and Products.
Miscellaneous Industrial Adhesives | EPA-453/R-08-005, Control Techniques Guidelines for Miscellaneous Industrial Adhesives.
Natural Gas/Gasoline Processing Plants Equipment Leaks | EPA-450/2-83-007, Control of Volatile Organic Compound Equipment Leaks from Natural Gas/Gasoline Processing Plants.
Paper, Film and Foil Coatings | EPA-453R-07-003, Control Techniques Guidelines for Paper, Film and Foil Coatings.
Petroleum Refineries | EPA-450/2-77-025, Control of Refinery Vacuum Producing Systems, Wastewater Separators, and Process Unit Turnarounds.
| EPA-450/2-78-036, Control of Volatile Organic Compound Leaks from Petroleum Refinery Equipment.
Pharmaceutical Products | EPA-450/2-78-029, Control of Volatile Organic Emissions from Manufacture of Synthesized Pharmaceutical Products.
Pneumatic Rubber Tires, Manufacture of | EPA-450/2-78-030, Control of Volatile Organic Emissions from Manufacture of Pneumatic Rubber Tires.
Polyester Resin | EPA-450/3-83-008, Control of Volatile Organic Compound Emissions from Manufacture of High-Density Polyethylene, Polypropylene, and Polystyrene Resins.
| EPA-450/3-83-006, Control of Volatile Organic Compound Leaks from Synthetic Organic Chemical Polymer and Resin Manufacturing Equipment.
Shipbuilding/Repair | EPA-453/R-94-032, Shipbuilding/Repair.
Synthetic Organic Chemical | EPA-450/3-84-015, Control of Volatile Organic Compound Emissions from Air Oxidation Processes in Synthetic Organic Chemical Manufacturing Industry.
| EPA-450/4-91-031, Control of Volatile Organic Compound Emissions from Reactor Processes and Distillation Operations in Synthetic Organic Chemical Manufacturing Industry.
Wood Furniture | EPA-453/R-96-007, Wood Furniture.

3. Major Non-CTG Sources of VOC or NOX

CAA section 182(b)(2) and (f) require RACT for stationary source categories covered by CTG documents and all major stationary sources of VOCs or NOX. ICAPCD was initially classified as subpart 1 marginal nonattainment for ozone, but was subsequently reclassified as subpart 2 moderate.³ A major source in a moderate ozone nonattainment area is defined as a stationary source that emits, or has the potential to emit, at least 100 tons per year of VOCs or NOX.⁴

³ See 69 FR 23858 (April 30, 2004), and 77 FR 28424 (May 14, 2012) (codified at 40 CFR 81.305 (California—2008 8-Hour Ozone NAAQS)).

⁴ See CAA sections 182(b)(2) and (f) and 302(j).

ICAPCD's 2009 RACT SIP, Table 3, lists nine facilities that were major sources of VOC or NOX at that time, along with the respective RACT rules for each facility. Three of the facilities listed did not have any VOC or NOX RACT rules listed as applicable. We found that one of the facilities, CalEnergy, is currently permitted with a total annual potential to emit of 1.8 tons per year of benzene (VOC).⁵ Another facility, ORMAT Nevada, Inc., had a regenerative thermal oxidizer added to the facility subsequent to the 2009 RACT SIP publication, and the potential to emit is now 19.6 tons per year of VOC.⁶ The third facility, GEM Resources (ORMESA, LLC), is subject to permit conditions which limits its potential to emit to 28.29 tons/year for VOCs and 9.94 tons/year for benzene.⁷ Therefore, all of these facilities are now well below the 100 tons/year threshold and are not major sources.

⁵ Imperial County Air Pollution Control District, Authority to Construct and Permit to Operate Review, Permit #2000H-9 (March 4, 2015) Table 8.

⁶ Imperial County Air Pollution Control District, Synthetic Minor Permit Review, Permit 1641B-3 (September 23, 2010) page 7.

⁷ Imperial County Air Pollution Control District, Conditions for Authority to Construct and Permit to Operate #2002I-4 (April 7, 2014).

ICAPCD adopted VOC and NOX rules which are applicable to the remaining six major source facilities. The EPA approved the following VOC rules into the California SIP: Rule 414, Storage of Reactive Organic Compounds, (73 FR 70883, November 24, 2008), and Rule 415, Transfer and Storage of Gasoline, (70 FR 8520, February 22, 2005). The following NOX rules were approved into the SIP by the EPA: Rule 400, Fuel Burning Equipment—Oxides of Nitrogen, (68 FR 14161, March 24, 2003), Rule 400.1, Stationary Gas Turbines, (77 FR 2469, January 18, 2012), and Rule 400.2, Boilers, Process Heaters and Steam Generators, (78 FR 896, January 7, 2013). Our previous approvals of Rules 400.1 and 400.2 found that they fulfilled RACT requirements. We are not aware of information suggesting that additional controls are needed to fulfill RACT since our approval of these rules. Our approval of Rule 400 did not include an evaluation of ozone RACT requirements. However, since each of the NOX sources subject to Rule 400 is also subject to at least one additional NOX rule that the EPA has found to fulfill RACT requirements, it is not necessary to determine whether Rule 400 fulfills RACT requirements at this time.

Subsequent to the 2009 RACT SIP submittal, ICAPCD adopted Rule 400.4, Emissions of Oxides of Nitrogen from Wallboard Kilns, to address a major source of NOX emissions from one of their facilities (U.S. Gypsum). The EPA approved it into the California SIP (79 FR 60070, October 6, 2014) as satisfying RACT requirements.

We also reviewed CARB's facilities inventory for the Imperial County, and are not aware of additional relevant major sources.

4. Conclusion

We find that ICAPCD's 2009 RACT SIP, including the negative declarations, adequately addresses RACT for the 1997 8-hour ozone NAAQS. Our TSD has more information on our evaluation of the RACT SIP submission.

C. EPA Recommendations To Further Improve the RACT SIP

The TSD describes additional revisions to the rules that we recommend for the next time the local agency modifies the rules, but are not currently the basis for rule disapproval.

D. Public Comment and Final Action

As authorized in section 110(k)(3) of the Act, the EPA is proposing to fully approve the submitted SIP revision because we believe it fulfills all relevant requirements. We will accept comments from the public on this proposal until October 1, 2015. Unless we receive convincing new information during the comment period, we intend to publish a final approval action that will incorporate this RACT submission into the Federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this proposed action merely proposes to approve State law as meeting Federal requirements and does not impose additional requirements beyond those imposed by State law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address disproportionate human health or environmental effects with practical, appropriate, and legally permissible methods under Executive Order 12898 (59 FR 7629, February 16, 1994).

In addition, this proposed action does not apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Reporting and recordkeeping requirements, Volatile organic compounds.

Dated: August 11, 2015.
Jared Blumenfeld,
Regional Administrator, Region IX.

[FR Doc. 2015-21543 Filed 8-31-15; 8:45 am]

BILLING CODE 6560-50-P